FEDERAL COMMUNICATIONS COMMISSION

Notice of Public Information Collection(s) Being Submitted to OMB for Review and Approval

May 23, 2005.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 1, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._ LaLonde@omb.eop.gov.

FOR FURTHER INFORMATION CONTACT: For additional information concerning this information collection(s) contact Cathy Williams at (202) 418-2918 or via the Internet at Cathy.Williams@fcc.gov. If you would like to obtain or view a copy of this revised information collection, you may do so by visiting the FCC PRA web page at: http://www.fcc.gov/omd/pra.

SUPPLEMENTARY INFORMATION: OMB Control Number: 3060-0750.

Title: 47 CFR Section 73.671, Educational and Informational Programming for Children; 47 CFR Section 73.673, Public Information Initiatives Regarding Educational and Informational Programming for Children.

Form Number: Not applicable.

Type of Review: Revision of a currently approved collection.

Respondents: Business or other for-profit entities.

Number of Respondents: 2,350.

Estimated Time per Response: 1-5 minutes.

Frequency of Response: Third party disclosure requirement.

Total Annual Burden: 36,660 hours.

Total Annual Cost: None.

Privacy Impact Assessment: No impact(s).

Needs and Uses: On September 9, 2004, the Commission adopted a Report And Order (R&O) and Further Notice of Proposed Rule Making (FNPRM), In The Matter of Children's Television Obligations of Digital Television Broadcasters, FCC 04-221, MM Docket No. 00-167. 47 CFR Section 73.673 is amended to remove program identification requirements. New identification requirements are in Section 73.671. Section 73.673 now states that each commercial television broadcast station licensee shall provide information identifying programming specifically designed to educate and inform children to publishers of program guides. Such information shall include an indication of the age group for this the program is intended. 47 CFR Section 73.671 states that each commercial and noncommercial educational television broadcast station licensee has an obligation to serve, over the term of its license, the Educational and Informational (E/I) needs of children (“Core Programming”) through both the licensee's overall programming and programming specifically designed to serve such needs. In order for a program to be identified as a core educational program, the E/I symbol must be displayed throughout the program. These changes are intended to provide greater clarity about broadcasters' obligations under the Children's Television Act (CTA) of 1990 which specified the airing of programs “specifically designed” to serve the educational and informational needs of children and to improve public access to information about the availability of these programs. These requirements will provide better information to the public about the shows broadcasters air to satisfy their obligation to provide educational and informational programming under the Children's Television Act of 1990.

Federal Communications Commission.
Marlene H. Dortch,
Secretary.

[FR Doc. 05-10970 Filed 5-31-05; 8:45 am]

BILLING CODE 6712-01-P